COMMISSION ON CIVIL RIGHTS

Notice of Public Meetings of the Delaware Advisory Committee; Corrections

AGENCY: Commission on Civil Rights.

ACTION: Notice; corrections.

The Commission on Civil Rights published a notice in the Federal Register of Friday, September 17, 2021, concerning meetings of the Delaware Advisory Committee. The notice is in the Federal Register of Friday, September 17, 2021, in FR Doc. 2021-20182, in the third column of page 51863 and the first column of page 51864. The document omitted pertinent information for joining the meeting; the purpose of the meeting is replaced; and the contact information is replaced as follows:

• Joining Web Conference Meetings on Oct. 6, 2021, Nov. 3, 2021, and Dec 1, 2021: https://bit.ly/2XqEM5W; password, if needed: USCCR-DE; Join by phone only, dial: 1-800-360-9505; Access code: 1996 49 4260#.

• The purpose of the meetings is to continue planning the Committee's review of its civil rights project on COVID-19 disparities experienced by people of color in Delaware.

FOR FURTHER INFORMATION CONTACT: Ivy L. Davis, at idavis@usccr.gov or by phone at 202-530-8468.

Dated: September 24, 2021.
David Mussatt,
Supervisory Chief, Regional Programs Unit.

[FR Doc. 2021-21171 Filed 9-28-21; 8:45 am]

BILLING CODE P